DEPARTMENT OF ENERGY

Western Area Power Administration

Modification of the Groton Generation Station Interconnection Agreement, Brown County, SD

AGENCY: Western Area Power Administration, DOE.

ACTION: Notice of Intent to prepare an Environmental Impact Statement and conduct a scoping meeting.

SUMMARY: The Western Area Power Administration (Western), an agency of the DOE, intends to prepare an Environmental Impact Statement ¹ (EIS) on modifying its Large Generator Interconnection Agreement (LGIA) with Basin Electric Power Cooperative (Basin Electric) to eliminate current operating limits for the Groton Generation Station. Basin Electric currently owns and operates the generating station with a condition in the LGIA that limits the output of the generating station to 50 average megawatts (MW). Western is issuing this notice to inform the public and interested parties about Western's intent to prepare an EIS, conduct a public scoping process, and invite the public to comment on the scope, proposed action, alternatives, and other issues to be addressed in the EIS.

¹ On October 4, 1999, Department of Energy's Assistant Secretary for Environmental, Safety and Health delegated to Western's Administrator the authority to approve EISs for integrating transmission facilities with Western's transmission grid.

While Western's proposed Federal action would be limited to contractual modifications, the EIS will identify and review the environmental impacts of operating the Groton Generating Station above the 50 average MW limit.

DATES: The public scoping period begins with the publication of this notice and closes on October 23, 2009. An open-house public scoping meeting will be held on October 7, 2009, from 4 p.m. to 7 p.m. CST.

ADDRESSES: The open-house public scoping meeting will be held at Groton Community Center, 109 West 3rd Avenue, Groton, SD 57445. Written comments on the scope of the EIS should be addressed to Ms. Erika Walters, NEPA Document Manager, Western Area Power Administration, Corporate Services Office, P.O. Box 281213, Lakewood, CO 80228-8213, fax (720) 962-7279, or e-mail walters@wapa.gov.

FOR FURTHER INFORMATION CONTACT: Ms. Erika Walters, NEPA Document Manager, Western Area Power Administration, Corporate Services Office, P.O. Box 281213, Lakewood, CO 80228-8213, fax (720) 962-7279, or e-mail walters@wapa.gov. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including South Dakota. Western owns and operates more than 17,000 miles of high-voltage transmission lines.

Project Description

Basin Electric currently owns and operates the Groton Generation Station in Brown County, South Dakota. Groton Generation Station has two generating units. Each unit is powered by a GE LMS100® simple cycle gas turbine rated at 100 MW at design conditions. Unit 1 went into commercial operation on July 1, 2006, and Unit 2 went into commercial operation on July 1, 2008. Basin Electric currently operates the generating station with a condition in its LGIA with Western that limits the output of the generating station to 50 average MW. Basin Electric proposes to modify the LGIA with Western to eliminate the 50 average MW administrative limit on its generating station, so it can produce power above the 50 average MW limit. Basin Electric needs to eliminate the operating limit to help serve increased load demand for electric power in the eastern portion of its service area. Basin Electric's eastern service area comprises western Nebraska, northwestern and central Iowa, portions of southern Minnesota, all of South Dakota, portions of eastern Montana, and western and central North Dakota. The need for additional generating capacity is driven by the increasing electrical power usage of the Basin Electric membership consumers. Between 1999 and 2006, Basin Electric's total system peak demand increased 752 MW from 1,195 MW to 1,947 MW, or approximately 107 MW per year. In 2007, Basin Electric prepared a forecast showing load and capability surpluses/deficits through the year 2021. The forecast predicts that, by 2014, there will be a deficit of 800-900 MW for the eastern portion of their service area.

The interconnection of each generating unit with Western's transmission system was addressed in separate environmental assessments; East Side Peaking Project, South Dakota, (DOE/EA-1524) and Groton Generating Station Project, South Dakota (DOE/EA-1524-S1). Based on these environmental assessments, which included the 50 MW operating limit provision, Western issued separate findings of no significant impact with determinations that the preparation of an EIS was not required on July 25, 2005, and June 20, 2008, respectively.

Proposed Agency Action and Alternatives

In response to Basin Electric's request, Western's proposed Federal action is to modify the LGIA with Basin Electric under its Open Access Transmission Service Tariff. Upon completion of the EIS, Western will make a decision whether or not to modify the LGIA to remove the 50 average MW limit. Western will also consider the no-action alternative in the EIS. Under the no-action alternative Western would not modify the LGIA and the current operating limits would remain.

Agency Responsibilities

Because the proposed contract modification would result in incorporating a major new generation resource into Western's power transmission system, Western has determined that an EIS is required under DOE NEPA implementing procedures, 10 CFR part 1021, Subpart D, Appendix D, class of action D6. Western will be the lead Federal agency for preparing the EIS, as defined at 40 CFR 1501.5. Western will invite other Federal, State, local, and tribal agencies with jurisdiction by law or special expertise with respect to environmental issues to be cooperating agencies on the EIS, as defined at 40 CFR 1501.6. Such agencies may also make a request to Western to be a cooperating agency by contacting Ms. Walters at the address listed above in the ADDRESSES section.

Environmental Issues

This notice is to inform agencies and the public of Western's intent to prepare an EIS and solicit comments and suggestions for consideration in the EIS. While Western's proposed Federal action would be limited to contractual modifications, the EIS will identify and review the environmental impacts of operating the Groton Generating Station above the 50 average MW limit. To help the public frame its comments, the following list contains potential environmental issues preliminarily identified for analysis in the EIS:

1. Impacts on human health and safety from additional operating hours, and

2. impacts on air and water resources (including air quality and surface water impacts).

This list is not intended to be all-inclusive or to imply any predetermination of impacts. Western invites interested parties to suggest specific issues within these general categories, or other issues not included above, to be considered in the EIS.

Public Participation

Public participation and full disclosure are planned for the entire EIS process. The EIS process will include the public open-house scoping meeting and a scoping comment period to solicit comments from interested parties; consultation and involvement with appropriate Federal, State, local, and tribal governmental agencies; public review and a hearing on the draft EIS; publication of a final EIS; and publication of a Record of Decision, expected in 2010. Western will hold the open-house public scoping meeting on October 7, 2009, in Groton, South Dakota, as noted above. The purpose of the scoping meeting is to provide information about Western's Federal action and Basin Electric's Groton Generating Station, display maps, answer questions, and take written comments from interested parties. Attendees are welcome to come and go at their convenience and to speak one-on-one with Western and Basin Electric representatives.

The public will have the opportunity to provide written comments at the meeting. In addition, attendees may provide written comments by fax, e-mail, or mail as discussed under DATES above. To help define the scope of the EIS, comments should be received by Western no later than October 23, 2009.

Dated: August 27, 2009.
Timothy J. Meeks,
Administrator.

[FR Doc. E9-22612 Filed 9-18-09; 8:45 am]

BILLING CODE 6450-01-P